ENVIRONMENTAL PROTECTION AGENCY

[EPA-HQ-OPP-2019-0274; FRL-10010-07]

Issuance of an Experimental Use Permit

AGENCY: Environmental Protection Agency (EPA).

ACTION: Notice.

SUMMARY: EPA has granted an experimental use permit (EUP) to Oxitec, Ltd to test efficacy of OX5034 Aedes aegypti mosquitoes expressing tetracycline Trans-Activator Variant (tTAV-OX5034) protein for control of wild Aedes aegypti mosquitoes. An EUP permits use of a pesticide for experimental or research purposes only in accordance with the limitations in the permit.

FOR FURTHER INFORMATION CONTACT: Robert McNally, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION:

I. General Information

A. Does this action Apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2019-0274, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

II. EUP

EPA has issued the following EUP:

93167-EUP-2. Issuance. Oxitec, Ltd., c/o Wiley Rein 1776 K Street NW, Washington, DC 20006. This EUP allows the use of 0.0115 pounds (5193.56 mg) of the insecticide active ingredient tTAV-OX5034 protein on 6,600 acres to evaluate the control of Aedes aegypti mosquitoes. The program is authorized only in the States of Florida and Texas. The EUP is effective from April 30, 2020 to April 30, 2022.

Authority: 7 U.S.C. 136 et seq.

Dated: May 27, 2020.
Robert McNally,
Director, Biopesticides and Pollution Prevention Division, Office of Pesticide Programs.

[FR Doc. 2020-12372 Filed 6-8-20; 8:45 am]

BILLING CODE 6560-50-P